ENVIRONMENTAL PROTECTION AGENCY

[EPA-HQ-OPP-2007-0884; FRL-8388-6]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Shanaz Bacchus, Biopesticides and Pollution Prevention Division (7511P), Office of Pesticide Programs, Environmental Protection Agency, 1200 Pennsylvania Ave., NW., Washington, DC 20460-0001; telephone number: (703) 308-8097; e-mail address: bacchus.shanaz@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2007-0884. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. EUP

EPA has issued the following EUP:

264-EUP-143. Issuance. Bayer CropScience LP, 2 T.W. Alexander Dr. Research Triangle Park, NC 27709. This EUP allows the use of the plant incorporated protectants Bacillus thuringiensis (Bt) Cry 1Ab and Bt Cry2Ae (insecticides) on 1,919 acres of cotton. The active ingredients are described on the permit labels and summarized as follows:

• 0.02022 pound (9.18 gram) of Bt Cry2Ae active ingredient in cotton events GHB119 and cotton event GHB714.

• 0.05883 pound (26.709 gram) of Bt Cry1Ab x Bt Cry2Ae (Twinlink) active ingredient in hybrids of cotton events T303-3 and T304-40 Bt Cry 1Ab with cotton events GHB 119 and GHB714 Bt Cry2Ae.

This EUP is intended to evaluate the control of Cotton bollworm (Helicoverpa zea), tobacco budworm (Heliothis virescens), pink bollworm (Pectinophora gossypiella), fall armyworm (Spodoptera frugiperda), and beet armyworm (Spodoptera exigua). The program is authorized only in the States of Alabama, Arizona, Arkansas, California, Florida, Georgia, Louisiana, Mississippi, North Carolina, South Carolina, Tennessee, Texas, and the United States Territory of Puerto Rico. The EUP is effective from September 1, 2008 to December 31, 2010.

Authority: 7 U.S.C. 136c.

List of Subjects

Environmental protection, Experimental use permits.

Dated: October 24, 2008.
Janet L. Andersen,
Director, Biopesticides and Pollution Prevention Division, Office of Pesticide Programs.

[FR Doc. E8-26149 Filed 11-4-08; 8:45 am]

BILLING CODE 6560-50-S